ENVIRONMENTAL PROTECTION AGENCY

[EPA-HQ-OPPT-2019-0075; FRL-9992-86]

Certain New Chemicals; Receipt and Status Information for December 2019

AGENCY: Environmental Protection Agency (EPA).

ACTION: Notice.

SUMMARY: EPA is required under the Toxic Substances Control Act (TSCA), as amended by the Frank R. Lautenberg Chemical Safety for the 21st Century Act, to make information publicly available and to publish information in the Federal Register pertaining to submissions under TSCA Section 5, including notice of receipt of a Premanufacture notice (PMN), Significant New Use Notice (SNUN) or Microbial Commercial Activity Notice (MCAN), including an amended notice or test information; an exemption application (Biotech exemption); an application for a test marketing exemption (TME), both pending and/or concluded; a notice of commencement (NOC) of manufacture (including import) for new chemical substances; and a periodic status report on new chemical substances that are currently under EPA review or have recently concluded review. This document covers the period from 12/01/2019 to 12/31/2019.

DATES: Comments identified by the specific case number provided in this document must be received on or before March 19, 2020.

ADDRESSES: Submit your comments, identified by docket identification (ID) number EPA-HQ-OPPT-2019-0075, and the specific case number for the chemical substance related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT:

For technical information contact: Jim Rahai, Information Management Division (7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. What action is the Agency taking?

This document provides the receipt and status reports for the period from 12/01/2019 to 12/31/2019. The Agency is providing notice of receipt of PMNs, SNUNs and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under the TSCA, 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory go to: https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN or SNUN, as appropriate, before initiating the activity. EPA will review the notice, make a risk determination on the chemical substance or significant new use, and take appropriate action as described in TSCA section 5(a)(3). TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: http://www.epa.gov/oppt/newchems.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Status Reports

In the past, EPA has published individual notices reflecting the status of TSCA section 5 filings received, pending or concluded. In 1995, the Agency modified its approach and streamlined the information published in the Federal Register after providing notice of such changes to the public and an opportunity to comment (See the Federal Register of May 12, 1995, (60 FR 25798) (FRL-4942-7). Since the passage of the Lautenberg amendments to TSCA in 2016, public interest in information on the status of section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the PMN/SNUN/MCANs that have passed an initial screening by EPA during this period, Table I provides the following information (to the extent that such information is not subject to a CBI claim) on the notices screened by EPA during this period: The EPA case number assigned to the notice that indicates whether the submission is an initial submission, or an amendment, a notation of which version was received, the date the notice was received by EPA, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number. Submissions which are amendments to previous submissions will have a case number followed by the letter “A” (e.g., P-18-1234A). The version column designates submissions in sequence as “1”, “2”, “3”, etc. Note that in some cases, an initial submission is not numbered as version 1; this is because earlier version(s) were rejected as incomplete or invalid submissions. Note also that future versions of the following tables may adjust slightly as the Agency works to automate population of the data in the tables.

Table I—PMN/SNUN/MCANs Approved * From 12/01/2019 to 12/31/2019
Case No. | Version | Received date | Manufacturer | Use | Chemical substance
J-20-0002 | 1 | 11/25/2019 | CBI | (G) Production of a chemical | Microorganism with chromosomally-borne genetic modifications for the production of a chemical.
P-16-0486A | 5 | 11/22/2019 | CBI | (G) Site-limited intermediate in the production of a refrigerant precursor | (G) Polychloropropane.
P-16-0539A | 5 | 12/3/2019 | CBI | (G) photolithography | (G) Organic sulfonate compound.
P-17-0239A | 7 | 12/11/2019 | CBI | (G) Adhesive for open non-descriptive use | (G) Substituted carboxylic acid, polymer with 2,4-diisocyanato-1-methylbenzene, hexanedioic acid, alpha-hydro-omega-hydroxypoly[oxy(methyl-1,2-ethanediyl)], 1,1′-methylenebis[4-isocyanatobenzene], 2,2′-oxybis[ethanol], 1,1′-oxybis[2-propanol] and 1,2-propanediol.
P-17-0245A | 7 | 12/12/2019 | CBI | (G) Adhesive for open, non-dispersive use | (G) Unsaturated polyfluoro ester.
P-17-0282A | 11 | 12/11/2019 | Elantas PDG, Inc | (S) This is a component of a mixture that is used as an impregnating varnish for stators and motors | (S) Isocyanic acid, polymethylenepolyphenylene ester, caprolactam- and phenol-blocked.
P-17-0405A | 8 | 12/6/2019 | CBI | (G) Oil and gas well performance | (G) halogenated benzoic acid ethyl ester.
P-17-0406A | 7 | 12/6/2019 | CBI | (G) Oil and gas well performance | (G) halogenated benzoic acid ethyl ester.
P-17-0407 | 6 | 12/6/2019 | CBI | (G) Well performance | (G) halogenated benzoic acid ethyl ester.
P-17-0408 | 5 | 12/6/2019 | CBI | (G) Well performance | (G) halogenated benzoic acid ethyl ester.
P-17-0409 | 6 | 12/6/2019 | CBI | (G) Monitor well performance | (G) halogenated benzoic acid ethyl ester.
P-17-0410 | 5 | 12/6/2019 | CBI | (G) Monitor well performance | (G) halogenated benzoic acid ethyl ester.
P-17-0411 | 5 | 12/6/2019 | CBI | (G) Monitor well performance | (G) halogenated benzoic acid ethyl ester.
P-17-0412 | 5 | 12/6/2019 | CBI | (G) Monitor well performance | (G) halogenated benzoic acid ethyl ester.
P-17-0414 | 5 | 12/6/2019 | CBI | (G) Monitor well performance | (G) halogenated benzoic acid.
P-17-0415 | 6 | 12/6/2019 | CBI | (G) Monitor well performance | (G) halogenated benzoic acid.
P-17-0416 | 6 | 12/6/2019 | CBI | (G) Monitor well performance | (G) halogenated benzoic acid.
P-17-0417 | 6 | 12/6/2019 | CBI | (G) Monitor well performance | (G) halogenated benzoic acid.
P-17-0418A | 6 | 12/6/2019 | CBI | (G) Monitor well performance | (G) halogenated benzoic acid.
P-17-0420A | 7 | 12/6/2019 | CBI | (G) Monitor well performance | (G) halogenated benzoic acid.
P-17-0421A | 6 | 12/6/2019 | CBI | (G) Monitor well performance | (G) halogenated benzoic acid.
P-17-0422A | 6 | 12/6/2019 | CBI | (G) Monitor well performance | (G) halogenated benzoic acid.
P-17-0423 | 5 | 12/6/2019 | CBI | (G) Monitor well performance | (G) halogenated benzoic acid ethyl ester.
P-17-0441 | 5 | 12/9/2019 | CBI | (G) Monitor well performance | (G) halogenated sodium benzoate.
P-17-0442 | 5 | 12/9/2019 | CBI | (G) Monitor well performance | (G) halogenated sodium benzoate.
P-17-0443A | 6 | 12/9/2019 | CBI | (G) Monitor well performance | (G) halogenated sodium benzoate.
P-17-0444 | 4 | 12/11/2019 | CBI | (G) Monitor well performance | (G) halogenated sodium benzoate.
P-17-0445A | 7 | 12/9/2019 | CBI | (G) Monitor well performance | (G) halogenated sodium benzoate.
P-17-0446A | 6 | 12/9/2019 | CBI | (G) Monitor well performance | (G) halogenated sodium benzoate.
P-17-0447 | 6 | 12/9/2019 | CBI | (G) Monitor well performance | (G) halogenated sodium benzoate.
P-17-0448 | 5 | 12/9/2019 | CBI | (G) Monitor well performance | (G) halogenated sodium benzoate.
P-17-0449 | 5 | 12/9/2019 | CBI | (G) Monitor well performance | (G) halogenated sodium benzoate.
P-17-0450 | 5 | 12/9/2019 | CBI | (G) Monitor well performance | (G) Halogenated benzoic acid.
P-18-0133A | 3 | 12/2/2019 | CBI | (G) component in hydraulic fracturing fluids | (G) Polyol adduct of bisaldehyde.
P-18-0253A | 3 | 11/22/2019 | UBE America, Inc | (G) Extrusion and Injection Molding Polymer | (S) Dodecanoic acid, 12-amino-, homopolymer.
P-18-0254A | 3 | 11/22/2019 | UBE America, Inc | (G) Extrusion and Injection Molding Polymer | (G) Hexanedioic acid, polymer with 12-aminododecanoic acid and a polyetheramine.
P-18-0255A | 3 | 11/22/2019 | UBE America, Inc | (G) Recreational equipment | (S) Dodecanoic acid, 12-amino-, polymer with hexahydro-2H-azepin-2-one.
P-18-0267A | 4 | 11/21/2019 | CBI | (G) curing agent | (G) Branched alkanoic acid, epoxy ester, reaction products with monocyclic dialkylamine and polycyclic alcohol epoxy polymer.
P-18-0268A | 4 | 11/21/2019 | CBI | (G) curing agent | (G) Branched alkanoic acid, epoxy ester, reaction products with monocyclicdialkanamine and polycyclic dialkanol ether polymer.
P-18-0269A | 4 | 11/21/2019 | CBI | (G) curing agent | (G) Branched alkanoic acid, epoxy ester, reaction products with monocyclicalkanamine, polycyclic alcohol ether homopolymer, and polycyclic alcohol epoxy polymer.
P-18-0273A | 2 | 12/11/2019 | CBI | (G) Used in polymer manufacturing | (S) 1,4-Cyclohexanedicarboxylic acid, 1,4-bis(2-ethylhexyl) ester.
P-18-0287A | 9 | 12/4/2019 | CBI | (G) Company plans to produce “tires, wastes, pyrolyzed, condensate oil fraction” (hereafter referred to as syn oil) (CASRN: 1312024-02-4) from scrap tire materials | (G) Synthetic oil from tires.
P-18-0300A | 3 | 12/4/2019 | CBI | (S) Additive for automatic dishwashing detergent | (G) Heteromonocycle, alkenoic 1:1 salt, polymer with alpha-(2-methyl-1-oxo-2-propen-1-y)l-omegamethoxypoly(oxy-1,2-ethanediyl) and methyl-alkenoic acid.
P-18-0345A | 2 | 12/10/2019 | Chitec Technology Co., Ltd | (S) R-gen 990 is a liquid aminoketone-based photoinitator (PI) intended for use as an ultraviolet (UV) curing agent in highly pigmented inks, photo-resists, and masks | (S) 1-Butanone, 2-(dimethylamino)-1-[4-(2-ethyl-2-methyl-3-oxazolidinyl)phenyl]-2-(phenylmethyl)-.
P-18-0350A | 2 | 12/4/2019 | Evonik Corporation | (S) Additive in water-borne UV-curable coatings,(S) Filler & pigment treatment,(S) Glass fiber treatment | (G) Aqueous methacrylamido modified polysiloxane.
P-18-0359A | 3 | 12/10/2019 | CBI | (G) Molded or extruded items | (G) Methoxy Vinyl Ether- Vinylidene Fluoride polymer.
P-18-0367A | 3 | 12/9/2019 | CBI | (S) Acid-modified polyether used as a wetting and dispersing additive for pigments in industrial paints and coatings | (G) Acid-modified polyether.
P-19-0052A | 5 | 12/11/2019 | Evonik Corporation | (S) Hard Surface Cleaner,(S) Component of Laundry Detergent | (S) Poly(oxy-1,2-ethanediyl), alpha-nonyl-omega-hydroxy-, branched and linear.
P-19-0055A | 3 | 12/9/2019 | Rahn USA, Corp | (S) The PMN is solely used as a photo initiator within UV curable coating/ink formulations | (S) 1,3-propanediol, 2-ethyl-2-(hydroxymethyl)-, polymer with oxirane, 4-(dimethylamino)benzoate.
P-19-0083A | 2 | 12/3/2019 | KX Technologies, LLC | (G) Activated carbon for water purification | (G) Charcoal, coconut shell, reaction products with cyclic amine.
P-19-0135A | 4 | 12/10/2019 | CBI | (G) Lubricant Additive | (G)Alkyl polyoxyethylene ethers, carboxymethylated.
P-19-0146A | 3 | 11/25/2019 | CBI | (G) Reagent used to introduce deuterium to the substrate chemical | (G) Modified dimethyl sulfoxide.
P-19-0148A | 2 | 12/13/2019 | CBI | (G) Fertilizer ingredient | (G) Iron, complexes with ethylenediamine-4-hydroxycarbomonocycle hetero-acid-2-oxoacetic acid reaction products, potassium salts.
P-19-0149A | 2 | 12/13/2019 | CBI | (G) Fertilizer ingredient | (G) Iron, complexes with ethylenediamine-4-hydroxycarbomonocycle hetero-acid potassium salt (1:1)-potassium 2-oxoacetate (1:1) reaction products, potassium salts.
P-19-0150A | 2 | 12/13/2019 | CBI | (G) Fertilizer ingredient | (G) Iron, complexes with ethylenediamine-4-hydroxycarbomonocycle hetero-acid-2-oxoacetic acid reaction products, sodium salts.
P-19-0151A | 2 | 12/13/2019 | CBI | (G) Fertilizer ingredient | (G) Iron, complexes with ethylenediamine-4-hydroxycarbomonocycle hetero-acid sodium salt (1:1)-sodium 2-oxoacetate (1:1) reaction products, sodium salts.
P-19-0152A | 3 | 11/21/2019 | UBE America, Inc | (G) Pre-polymer for polyurethane roll covers | (G) alkaneic acid, dialkyl ester polymer with alkanediol, [[(isocyanatocarbomonocycle)alkyl)carbomonocycle)carbamate.
P-19-0159A | 5 | 12/6/2019 | CBI | (G) As Catalyst in Industrial sector | (G) Titanium (4+) hydroxy-alkylcarboxylate salt complex.
P-19-0159A | 6 | 12/13/2019 | CBI | (G) As Catalyst in Industrial sector | (G) Titanium (4+) hydroxy-alkylcarboxylate salt complex.
P-19-0174 | 3 | 12/11/2019 | International Lubricants, Inc | (G) Phosphorus antiwear compound | (G) Octadecanoic acid, (alkylphosphinyl), polyol ester.
P-20-0009A | 3 | 12/11/2019 | Resinate Materials Group, Inc | (S) Intermediate for use in the manufacture of polymers | (G) Waste plastics, poly(ethylene terephthalate), depolymd. with polyol, polymers with alkanedioic acid and alkanoic acid.
P-20-0011A | 4 | 12/2/2019 | CBI | (G) Light stabilizer | (G) Tetraoxaspiro[5.5]alkyl-3,9-diylbis(alkyl-2,1-diyl) bis(2-cyano-3-(3,4-dimethoxyphenyl)acrylate).
P-20-0012A | 5 | 12/12/2019 | CBI | (G) Ink Additive | (G) Polyol, polymer with alkyl diisocyanate, alkyl substituted heterocycle blocked.
P-20-0018 | 2 | 11/26/2019 | CBI | (G) Component in candles | (G) Fatty acid dimers, polymers with glycerol and triglycerides.
P-20-0019 | 2 | 11/26/2019 | CBI | (G) Component in candles | (G) Fatty acid dimers, polymers with glycerol and triglycerides.
P-20-0020 | 2 | 11/26/2019 | CBI | (G) Component in candles | (G) Fatty acid dimers, polymers with glycerol and triglycerides.
P-20-0021 | 2 | 11/26/2019 | CBI | (G) Component in candles | (G) Fatty acid dimers, polymers with glycerol and fatty acids.
P-20-0022 | 2 | 12/9/2019 | CBI | (G) Fuel additive for combustion improver | (G) Polyalkoxycarbopolycycle hydroxy.
P-20-0024 | 3 | 12/4/2019 | CBI | (G) Dispersant polymer for coatings | (G) Phenol-formaldehyde polymer with amino-oxirane copolymer and nitrobenzoates.
P-20-0026 | 2 | 12/20/2019 | GE Healthcare | (S) The new monomer is isolated and used for subsequent polymerization | (G) N-alkyl heteromonocyclic diphenolamide.
P-20-0029 | 2 | 12/18/2019 | KURARAY America, Inc | (G) Oil soluble additive | (S) Octanal, 7(or 8)-formyl-.
P-20-0030 | 1 | 12/16/2019 | CBI | (S) Plasticizer for Plastisols, and Plasticizer in caulks and sealants | (G) Hexanedioic acid, alkyl ester.
P-20-0032 | 1 | 12/18/2019 | Engineered Bonded Structures and Composites | (S) Talathol PO3, the material for which this notice is filed, is intended to be used as a copolymer in the production of urethane foam or coating | (G) Polyethylene terephthalate polyol.
P-20-0035 | 1 | 12/19/2019 | CBI | (G) Colorant | (G) Substituted aromatic, 3,3′-[[6-[(substituted alkyl amino)]-1,3,5-triazine-2,4-diyl]bis[imino[2-(substituted)-5-[substituted alkoxy]-4,1-phenylene]-2,1- diazenediyl]]bis[substituted, sodium salt].
P-20-0038 | 1 | 12/23/2019 | Nissan Chemical Houston Corporation | (S) PMN substance will be used as resist compound for semiconductor manufacture | (S) 1,3,5-Triazine-2,4,6(1H,3H,5H)-trione, 1,3,5-tris[3-(2-oxiranyl)propyl]-.
* The term `Approved' indicates that a submission has passed a quick initial screen ensuring all required information and documents have been provided with the submission prior to the start of the 90-day review period, and in no way reflects the final status of a complete submission review.

In Table II of this unit, EPA provides the following information (to the extent that such information is not claimed as CBI) on the NOCs that have passed an initial screening by EPA during this period: The EPA case number assigned to the NOC including whether the submission was an initial or amended submission, the date the NOC was received by EPA, the date of commencement provided by the submitter in the NOC, a notation of the type of amendment (e.g., amendment to generic name, specific name, technical contact information, etc.) and chemical substance identity.

Table II—NOCs Approved * From 12/01/2019 to 12/31/2019
Case No. | Received date | Commencement date | If amendment, type of amendment | Chemical substance
P-16-0132A | 12/12/2019 | 10/24/2019 | Withdrew CBI claim | (S) Oxirane, 2-methyl-, polymer with oxirane, mono-c16-18-alkyl ethers, phosphates.
P-16-0388 | 12/3/2019 | 11/25/2019 | N | (S) Amines, n-(3-aminopropyl)-n-tallow alkyltrimethylenedi-, polymers with bisphenol A and epichlorohydrin.
P-16-0470 | 11/28/2019 | 11/19/2019 | N | (S) 2,7-Nonadien-4-ol, 4,8-dimethyl-.
P-16-0572A | 12/10/2019 | 9/19/2019 | Generic chemical name | (G) Fatty acids, tall oil, reaction products with polyalkylene-polysubstituted-terephthalic acid polymer.
P-17-0362 | 12/11/2019 | 11/12/2019 | N | (G) Aliphatic phosphoric amide ester.
P-18-0125 | 11/26/2019 | 11/18/2019 | N | (S) Acetic acid, 2-oxo-, sodium salt (1:1).
P-18-0155 | 12/4/2019 | 11/20/2019 | N | (G) Crosslinked polymer of alkyl acrylamides, acrylate esters, and alkyl acrylamide sulfonate salt.
P-18-0156 | 12/4/2019 | 11/20/2019 | N | (G) Crosslinked polymer of alkyl acrylamides, acrylate esters, and alkyl acrylamide sulfonic acid.
P-18-0295 | 11/27/2019 | 11/5/2019 | N | (S) 1,3-Butanediol, (3R)-.
P-18-0300 | 12/4/2019 | 11/20/2019 | N | (G) Heteromonocycle, alkenoic 1:1 salt, polymer with .alpha.-(2-methyl-1-oxo-2-propen-1-yl)-.omega.-methoxypoly(oxy-1,2-ethanediyl) and methyl-alkenoic acid.
P-18-0321A | 12/5/2019 | 10/23/2019 | Withdrew CBI claim | (S) Poly(oxy-1,2-ethanediyl), alpha,alpha′-(1-methyl-1,2-ethanediyl)bis[omega-hydroxy-.
P-19-0065 | 12/9/2019 | 11/15/2019 | N | (S) 2lamda5,4lamda5,6lamda5—1,3,5,2,4,6 triazatriphosphorine, 2,2,4,4,6,6 -hexaphenoxy-.
P-19-0108 | 12/3/2019 | 11/18/2019 | N | (S) Benzoic acid, 2-chloro-4-methyl-, ethyl ester.
P-19-0120 | 12/11/2019 | 11/21/2019 | N | (G) Alkenoic acid, polymer with alkanediyl bis substituted alkylene bis heteromonocycle, substituted carbomonocycle and (alkylalkenyl) carbomonocycle, alkali metal salt.
* The term `Approved' indicates that a submission has passed a quick initial screen ensuring all required information and documents have been provided with the submission.

In Table III of this unit, EPA provides the following information (to the extent such information is not subject to a CBI claim) on the test information that has been received during this time period: The EPA case number assigned to the test information; the date the test information was received by EPA, the type of test information submitted, and chemical substance identity.

Table III—Test Information Received From 12/01/2019 to 12/31/2019
Case No. | Received date | Type of test information | Chemical substance
L-18-0168 | 11/25/2019 | Particle Size Distribution Study | (G) Aromatic carboxylic acid, 2-[2-(6-amino-1-hydroxy-3-sulfo-2-aromaticyl)diazenyl]-, reaction products with 4-[[7-[2-(4-amino-2-alkoxyaromaticyl)diazenyl]-8-hydroxy-6-sulfo-2-aromaticyl]amino]aromatic carboxylic acid, 4-[2-(4-aminoaromaticyl)diazenyl]aromaticsulfonic acid, metal sulfate, 2,2′-(1,2-alkenediyl)bis[5-nitroaromaticsulfonic acid] and sodium hydroxide.
P-06-0489 | 12/14/2019 | Annual Impurity Report | (G) Fluoroalkyl methacrylate copolymer.
P-06-0494 | 12/14/2019 | Annual Impurity Report | (G) Fluoroalkyl methacrylate copolymer.
P-06-0576 | 12/14/2019 | Annual Impurity Report | (G) Fluoroalkyl acrylate copolymer.
P-06-0586 | 12/14/2019 | Annual Impurity Report | (G) Fluoroalkyl methacrylate copolymer.
P-07-0447 | 12/14/2019 | Annual Impurity Report | (G) Fluoroalkyl acrylate copolymer.
P-08-0222 | 12/14/2019 | Annual Impurity Report | (G) Fluoroalkyl acrylate copolymer.
P-09-0037 | 12/14/2019 | Annual Impurity Report | (G) Fluoroalkyl methacrylate copolymer.
P-09-0511 | 12/14/2019 | Annual Impurity Report | (G) Fluoroalkyl acrylate copolymer.
P-10-0317 | 12/14/2019 | Annual Impurity Report | (G) Fluoroalkyl acrylate copolymer.
P-13-0646 | 12/14/2019 | Annual Impurity Report | (G) Fluoroalkyl acrylate copolymer.
P-13-0647 | 12/14/2019 | Annual Impurity Report | (G) Fluoroalkyl acrylate copolymer.
P-13-0648 | 12/14/2019 | Annual Impurity Report | (G) Fluoroalkyl acrylate copolymer.
P-13-0649 | 12/14/2019 | Annual Impurity Report | (G) Fluoroalkyl acrylate copolymer.
P-13-0678 | 12/14/2019 | Annual Impurity Report | (G) Fluoroalkyl methacrylate copolymer.
P-13-0679 | 12/14/2019 | Annual Impurity Report | (G) Fluoroalkyl acrylate copolymer.
P-15-0154 | 12/14/2019 | Annual Impurity Report | (G) Fluoroalkyl acrylate copolymer.
P-16-0543 | 12/12/2019 | Exposure Monitoring Report | (G) Halogenophosphoric acid metal salt.
P-17-0005 | 12/09/2019 | 28-day (Subacute) Inhalation Toxicity Study (OECD Test Guideline 412) | (S) 1-tetradecene homopolymer hydrogenated.
P-17-0343A | 12/03/2019 | Ready Biodegradability of a Test Substance Based on OECD Method 301A, Acute Toxicity Test Freshwater Invertebrate and Vertebrate, Acute Oral Toxicity Study in Rats, Dermal and Eye Irritation Study | (G) Modified benzimidazole.
P-17-0343A | 12/03/2019 | Ready Biodegradability of a Test Substance Based on OECD Method 301A, Acute Toxicity Test Freshwater Invertebrate and Vertebrate, Acute Oral Toxicity Study in Rats, Dermal and Eye Irritation Study | (G) Modified benzimidazole salt.
P-18-0293 | 12/05/2019 | In vitro Skin Corrosion Test with Chemilian H4000 XP using a Human Skin Model, In vitro Skin Irritation Test with Chemilian L3000 XP using a Human Skin Model | (S) Propanedioic acid, 2-methylene-, 1,3-dihexyl ester.
P-18-0303 | 12/09/2019 | Aquatic Toxicity Acute Base set (OECD Test Guideline 201, 202, 203) | (G) 2-propenoic acid, polymer with aliphatic cyclic epoxide.
P-18-0365 | 12/13/2019 | Exposure Monitoring Report | (G) Starch, carboxymethyl ether, sodium salt, polymer with polycarboxylic acid.
P-18-0366 | 12/13/2019 | Exposure Monitoring Report | (G) Starch, carboxymethyl ether, sodium salt, polymer with mixed polycarboxylic acids.
P-19-0038 | 12/16/2019 | Water solubility Study (OECD Test Guideline 105), Partition Coefficient Study (OECD Test Guideline 107), Analytical Method Validation of Fatty acids, coco, iso-Bu esters, Validation of the analytical methods | (S) Fatty acids, coco, iso-bu esters.
P-19-0041 | 11/25/2019 | Algal Growth Inhibition Test, Acute Toxicity to Fish Mitigated by Humic Acid | (G) Alkyl diester, polymer with (dialkylamino alkyl) amine and bis(halogenated alkyl) ether.
P-19-0147 | 12/12/2019 | Vapor Pressure by Isoteniscope (ASTM D2879) | (G) Alkoxylated butyl alkyl ester.

If you are interested in information that is not included in these tables, you may contact EPA's technical information contact or general information contact as described under FOR FURTHER INFORMATION CONTACT to access additional non-CBI information that may be available.

(Authority: 15 U.S.C. 2601 et seq.)

Dated: January 31, 2020.
Megan Carroll,
Acting Director, Information Management Division, Office of Pollution Prevention and Toxics.

[FR Doc. 2020-03105 Filed 2-14-20; 8:45 am]

BILLING CODE 6560-50-P